CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) entitled AmeriCorps Alumni Profile Card to the Office of Management and Budget (OMB) for review and approval in accordance with the Paperwork Reduction Act of 1995, Pub. L. 104-13 (44 U.S.C. Chapter 35). Copies of this ICR, with applicable supporting documentation, may be obtained by calling the Corporation for National and Community Service, Mr. Tim McManus at (202) 606-5000, ext. 221, or by e-mail to: tmcmanus@cns.gov. Individuals who use a telecommunications device for the deaf (TTY-TDD) may call (202) 565-2799 between 8:30 a.m. and 5 p.m. e.s.t., Monday through Friday.

ADDRESSES: Comments may be submitted, identified by the title of the information collection activity, to the Office of information and Regulatory Affairs, Attn: Ms. Katherine Astrich, OMB Desk Office for the Corporation for National and Community Service, by any of the following two methods within 30 days from the date of publication in this Federal Register.

(1) By fax to: (202) 395-6974, Attention: Ms. Katherine Astrich, OMB Desk Officer for the Corporation for National and Community Service; and

(2) Electronically by e-mail to: Katherine_T._Astrich@omb.eop.gov.

The initial 60-day public Federal Register notice for the AmeriCorps Alumni Profile Card was published in the Federal Register on January 27, 2004. This comment period ended on March 29, 2004; no comments were received.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Type of Review: Reinstatement, with change, of a previously approved collection for which approval has expired.

Agency: Corporation for National and Community Service.

Title: AmeriCorps Alumni Profile Card. (Previously named the AmeriCorps*VISTA Locator Card.)

OMB Number: 3045-0048.

Agency Number: None.

Affected Public: Individuals and households.

Total Respondents: 12,000.

Frequency: Continuous.

Average Time Per Response: 4 minutes.

Estimated Total Burden Hours: 800 hours.

Total Burden Cost (Capital/Startup): None.

Total Burden Cost (Operating/Maintenance): None.

Description: The Corporation proposes to reinstate, with change, the AmeriCorps Alumni Profile Card to send to former AmeriCorps and VISTA members' home addresses requesting that they complete the card and return it to the AmeriCorps Recruitment Office. The card will be used by Corporation personnel and other organizations (only with the explicit written permission of the respondent). The purpose of the card is to enhance communications between the Corporation and former AmeriCorps members, to provide them with information on Corporation activities, and to seek their assistance in volunteer recruitment activities.

The Corporation proposes to revise the AmeriCorps Alumni Profile Card by changing the name to more accurately describe the information collection and to include the members who served in all AmeriCorps programs. In addition, the Corporation will delete unused information from the existing version of the card, including removing questions pertaining to meeting facilities and housing and collecting the following data from the former member:

• The exact dates of service from the person filling out the AmeriCorps Alumni Profile Card.

• Detailed information about the person's current interests, occupation and expertise.

• Collecting the person's cell phone number for those who prefer to be contacted in that manner.

The Corporation also plans to gather additional information about former members' current education levels. This will help the Corporation to more accurately gear communication to former members who may be interested in furthering their education or who may benefit from a particular new initiative.

Further, the Corporation proposes to revise the AmeriCorps Alumni Profile Card by asking former members to identify their involvement with the Corporation or community.

Dated: August 13, 2004.
Timothy J. McManus,
Director, AmeriCorps Recruitment.

[FR Doc. 04-21043 Filed 9-17-04; 8:45 am]

BILLING CODE 6050-$$-P